DEPARTMENT OF COMMERCE

International Trade Administration

[A-583-859]

Steel Concrete Reinforcing Bar From Taiwan: Final Determination of Sales at Less Than Fair Value

AGENCY: Enforcement and Compliance, International Trade Administration, Department of Commerce.

SUMMARY: The Department of Commerce (the Department) determines that imports of steel concrete reinforcing bar (rebar) from Taiwan are being, or are likely to be, sold in the United States at less than fair value (LTFV). The period of investigation (POI) is July 1, 2015, through June 30, 2016. For information on the estimated weighted-average dumping margins of sales at LTFV, see the “Final Determination” section of this notice.

DATES: Applicable July 27, 2017.

FOR FURTHER INFORMATION CONTACT: Jun Jack Zhao or Kathryn Wallace, AD/CVD Operations, Office VII, Enforcement and Compliance, International Trade Administration, U.S. Department of Commerce, 1401 Constitution Avenue NW., Washington, DC 20230; telephone: (202) 482-1396 or (202) 482-6251, respectively.

SUPPLEMENTARY INFORMATION:

Background

On March 7, 2017, the Department published the Preliminary Determination of this antidumping duty (AD) investigation.¹ The petitioners in this investigation are the Rebar Trade Action Coalition and its individual members.² The mandatory respondents in this investigation are Power Steel Co., Ltd. (Power Steel) and Lo-Toun Steel and Iron Works Co., Ltd. (Lo-Toun). Following the Preliminary Determination, Lo-Toun withdrew its participation as a mandatory respondent. A complete summary of the events that occurred since publication of the Preliminary Determination, as well as a full discussion of the issues raised by parties for this final determination, may be found in the Final Issues and Decision Memorandum, which is dated concurrently with and hereby adopted by this notice.³ The Issues and Decision Memorandum is a public document and is available electronically via Enforcement and Compliance's Antidumping and Countervailing Duty Centralized Electronic Service System (ACCESS). Access is available to registered users at http://access.trade.gov and to all parties in the Central Records Unit, Room B-8024 of the Department's main building. In addition, a complete version of the Issues and Decision Memorandum can be accessed at http://enforcement.trade.gov/frn/. The signed Issues and Decision Memorandum and the electronic version are identical in content.

¹ See Steel Concrete Reinforcing Bar from Taiwan: Preliminary Affirmative Determination of Sales at Less Than Fair Value, Postponement of Final Determination, and Extension of Provisional Measures, 82 FR 12800 (March 7, 2017) (Preliminary Determination).

² The Rebar Trade Action Coalition is comprised of Byer Steel Group, Inc., Commercial Metals Company, Gerdau Ameristeel U.S. Inc., Nucor Corporation, and Steel Dynamics, Inc.

³ See Memorandum, “Issues and Decision Memorandum for the Final Affirmative Determination in the Antidumping Duty Investigation of Steel Concrete Reinforcing Bar from Taiwan” (Issues and Decision Memorandum).

Scope of the Investigation

The scope of the investigation covers rebar from Taiwan. The Department did not receive any scope comments and has not updated the scope of the investigation since the Preliminary Determination. For a complete description of the scope of this investigation, see Appendix I to this notice.

Analysis of Comments Received

The issues raised in the case briefs and rebuttal briefs submitted by interested parties in this investigation are discussed in the Issues and Decision Memorandum. A list of the issues raised by parties and responded to by the Department in the Issues and Decision Memorandum is attached at Appendix II to this notice.

Verification

As provided in section 782(i) of the Tariff Act of 1930, as amended (the Act), during April 2017, the Department verified the sales and cost data reported by Power Steel for use in our final determination. We used standard verification procedures, including an examination of relevant accounting and production records, and original source documents provided by the respondent.

Use of Adverse Facts Available

In making this final determination, the Department relied, in part, on facts available. As discussed in the Issues and Decision Memorandum,⁴ we determine that Lo-Toun, by withdrawing its participation in the investigation, significantly impeded the investigation, submitted information that could not be verified, and failed to cooperate by not acting to the best of its ability in responding to the Department's requests for information. Therefore, we drew an adverse inference in selecting from among the facts otherwise available.⁵ For further information, see the “Use of Facts Otherwise Available and Adverse Inferences” in the Issues and Decision Memorandum.

⁴ See Issues and Decision Memorandum at 4.

⁵ See sections 776(a) and (b) of the Act.

Changes Since the Preliminary Determination

Based on our analysis of the comments received and our findings at verification, we made certain changes to the margin calculations since the Preliminary Determination. These changes are discussed in Section V of the Issues and Decision Memorandum.

All-Others Rate

In accordance with section 735(c)(1)(B)(i)(I) of the Act, the Department calculated a dumping margin for the individually investigated exporters/producers of the subject merchandise. Consistent with sections 735(c)(1)(B)(i)(II) and 735(c)(5) of the Act, the Department also calculated an estimated “all-others” rate for exporters and producers not individually investigated. Section 735(c)(5)(A) of the Act provides that the “all-others” rate shall be an amount equal to the weighted average of the estimated weighted-average dumping margins established for individually investigated exporters and producers, excluding any margins that are zero or de minimis or any margins determined entirely under section 776 of the Act.

Because the estimated weighted-average dumping margin calculated for Lo-Toun is based entirely on facts available under section 776 of the Act, we have not utilized Lo-Toun's rate in order to calculate the all-others rate. Pursuant to section 735(c)(5), we utilized the remaining rate, which is neither zero or de minimis or based entirely on facts available, in order to calculate the all-others rate.

Final Determination

Pursuant to section 735 of the Act, the Department determines the estimated weighted-average dumping margins to be:

Company | Estimated weighted- average dumping margins (percent)
Power Steel Co., Ltd | 3.50
Lo-Toun Steel and Iron Works Co. Ltd | 32.01
All-Others | 3.50

Disclosure

In accordance with 19 CFR 351.224(b), we will disclose the calculations performed within five days of any public announcement of this notice.

Continuation of Suspension of Liquidation

In accordance with section 735(c)(1)(B) of the Act, the Department will instruct U.S. Customs and Border Protection (CBP) to continue to suspend liquidation of all appropriate entries of rebar from Taiwan, as described in Appendix I of this notice, which were entered, or withdrawn from warehouse, for consumption on or after March 7, 2017, the date of publication of the Preliminary Determination. Furthermore, the Department will instruct CBP to require a cash deposit for such entries of merchandise.

International Trade Commission Notification

In accordance with section 735(d) of the Act, we will notify the U.S. International Trade Commission (ITC) of the final affirmative determination of sales at LTFV. Because the final determination in this proceeding is affirmative, in accordance with section 735(b)(2) of the Act, the ITC will make its final determination as to whether the domestic industry in the United States is materially injured, or threatened with material injury, by reason of imports of rebar from Taiwan no later than 45 days after our final determination. If the ITC determines that material injury or threat of material injury does not exist, the proceeding will be terminated and all cash deposits will be refunded. If the ITC determines that such injury does exist, the Department will issue an AD order directing CBP to assess, upon further instruction by the Department, antidumping duties on all imports of the subject merchandise entered, or withdrawn from warehouse, for consumption on or after the effective date of the suspension of liquidation, as discussed above in the “Continuation of Suspension of Liquidation” section.

Notification Regarding Administrative Protective Orders

This notice serves as the only reminder to parties subject to an administrative protective order (APO) of their responsibility concerning the disposition of proprietary information disclosed under APO in accordance with 19 CFR 351.305(a)(3). Timely notification of the return/destruction of APO materials or conversion to judicial protective order is hereby requested. Failure to comply with the regulations and the terms of an APO is violation subject to sanction.

This determination is issued and published in accordance with sections 735(d) and 777(i)(1) of the Act.

Dated: July 20, 2017.
Gary Taverman,
Deputy Assistant Secretary for Antidumping and Countervailing Duty Operations, performing the non-exclusive functions and duties of the Assistant Secretary for Enforcement and Compliance.

Appendix I

Scope of the Investigation

The merchandise subject to this investigation is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject country or a third country, including but not limited to cutting, grinding, galvanizing, painting, coating, or any other processing that would not otherwise remove the merchandise from the scope of the investigation if performed in the country of manufacture of the rebar.

Specifically excluded are plain rounds (i.e., nondeformed or smooth rebar). Also excluded from the scope is deformed steel wire meeting ASTM A1064/A1064M with no bar markings (e.g., mill mark, size, or grade) and without being subject to an elongation test.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

Appendix II

List of Topics Discussed in the Final Issues and Decision Memorandum

I. Summary

II. Background

III. Scope of the Investigation

IV. Scope Comments

V. Changes Since the Preliminary Determination

VI. Use of Facts Otherwise Available and Adverse Inferences

VII. Discussion of the Issues

Comment 1: Whether a Particular Market Situation Exists With Respect to Power Steel's Billet Purchases From China

Comment 2: Whether To Apply the Department's Quarterly-Cost Methodology to Power Steel

Comment 3: Whether To Incorporate Findings From the Department's Cost Verification in the Final Determination for Power Steel

Comment 4: Whether To Rely on Adverse Facts Available for Lo-Toun's Rate

VIII. Recommendation

[FR Doc. 2017-15840 Filed 7-26-17; 8:45 am]

BILLING CODE 3510-DS-P